ENVIRONMENTAL PROTECTION AGENCY

[FRL-8253-6]

Public Notice of Seven (7) Draft National Pollutant Discharge Elimination System (NPDES) General Permits for Storm Water Discharges From Industrial Activities

AGENCY: Environmental Protection Agency (EPA).

ACTION: Notice of availability of proposed NPDES general permits for public comment.

SUMMARY: Region 8 of EPA is hereby giving notice of its tentative determination to issue seven (7) NPDES general permits for storm water discharges from regulated industrial activities. The proposed general permits are applicable to Federal Facilities within the State of Colorado and to Indian country within the Region 8 states as listed below.

State | Permit No. | Areas covered
Colorado | COR05*##F | Federal Facilities in the State of Colorado, except those located in Indian country.
Colorado | COR05*##I | Indian country within the State of Colorado, as well as the portion of the Ute Mountain Reservation located in New Mexico.
Montana | MTR05*##I | Indian country within the State of Montana.
North Dakota | NDR05*##I | Indian country within the State of North Dakota (except for the portion of the lands within the former boundaries of the Lake Traverse Reservation which is covered under permit SDR05*##I listed below), as well as that portion of the Standing Rock Reservation located in South Dakota.
South Dakota | SDR05*##I | Indian country within the State of South Dakota (except for the Standing Rock Reservation, which is covered under permit NDR05*##I listed above), as well as the portion of the Pine Ridge Reservation located in Nebraska and the portion of the lands within the former boundaries of the Lake Traverse Reservation located in North Dakota.
Utah | UTR05*##I | Indian country within the State of Utah, except Goshute and Navajo Reservation lands (permitted through EPA Region 9).
Wyoming | WYR05*##I | Indian country within the State of Wyoming.

NPDES permit coverage is required for storm water discharges from industrial activities in accordance with final EPA regulations for Phase I (55 FR 48063, Nov. 16, 1990) and Phase II (64 FR 68722, Dec. 8, 1999) storm water discharges. Operators of regulated industrial activities as defined in federal regulations at 40 CFR 122.26(b)(14) are required to submit a Notice of Intent (NOI) application and a Storm Water Pollution Prevention Plan (SWPPP) to EPA to be covered under the general permit. Upon receipt of complete NOI and EPA approval of the SWPPP, operators will be authorized to discharge storm water from their industrial activities in accordance with the terms described in the permit. Those industries which have a direct discharge of process wastewater (non storm water) and/or whose storm water discharges are subject to Effluent Limitation Guidelines (ELGs) must obtain permit coverage for their storm water discharges under an individual permit.

In accordance with the draft general permit, operators of regulated industrial activities must implement storm water management controls which are designed to protect water quality and ensure that discharges from industrial activities do not cause or contribute to a violation of water quality standards. Several storm water management controls are required by the permit and address good housekeeping, identification of potential pollutant sources, preventative maintenance, spill prevention and response, material handling/waste management, employee training, record keeping, erosion/sediment control, illicit discharges, visual inspections, and comprehensive facility inspections. Operators must submit a pollution prevention plan to the EPA which includes a site map and describes how the storm water management controls are being implemented at the specified location.

DATES: Public comments on this draft permit must be received or postmarked no later than January 10, 2007. A public hearing may be requested in writing (see 40 CFR 124.11) within the comment period concerning the proposed permit. EPA will hold a public hearing if on the basis of requests, a significant degree of public interest in the draft permit exists (see 40 CFR 124.12). Within 120 days following notice of EPA's final decision for the general permit under 40 CFR 124.15, any interested person may appeal the permit in the Federal Court of Appeals in accordance with section 509(b)(1) of the CWA. Persons affected by a general permit may not challenge the conditions of a general permit as a right in further Agency proceedings. They may instead either challenge the general permit in court, or apply for an individual permit as specified at 40 CFR 122.21 (and authorized at 40 CFR 122.28), and then petition the Environmental Appeals Board to review any conditions of the individual permit (40 CFR 124.19 as modified on May 15, 2000, 65 FR 30886).

ADDRESSES: Public comments or requests for a public hearing should be sent to: Greg Davis (8P-W-WW); Attention: NPDES Permits; U.S. EPA, Region 8; 999 18th Street, Suite 200; Denver, CO 80202-2466. Public comments will also be accepted via electronic mail (E-mail) at davis.gregory@epa.gov.

Public Comment Period: Public comments are invited. Comments must be received or postmarked no later than January 10, 2007. Comments should be sent to: Greg Davis at the above address. Each comment should cite the page number and, where possible, the section(s) and/or paragraph(s) in the draft permit or Fact Sheet to which each comment refers. Commenters should use a separate paragraph for each issue discussed.

FOR FURTHER INFORMATION CONTACT: For a copy of the draft permit and Fact Sheet or for further information on the draft permit, contact either Greg Davis (303) 312-6314 (davis.gregory@epa.gov) at the above address or Ellen Bonner, (303) 312-6371 (bonner.ellen@epa.gov), at U.S. EPA Region 8 (8P-W-WW); 999 18th Street, Suite 200; Denver, CO 80202-2466. Copies of the draft permit and Fact Sheet may be downloaded from the EPA Region 8 Web site at http://www.epa.gov/region8/water/stormwater.

SUPPLEMENTARY INFORMATION: When the final general permit is issued, it will be published by reference in the Federal Register. The general permit will be effective on the date specified in the Federal Register with an expiration five years from such date.

Administrative Record: The proposed general permit and other related documents in the administrative record are on file in the EPA Region 8 NPDES file room and may be inspected upon request any time between 8 a.m. and 4 p.m., Monday through Friday, excluding legal holidays, at the following address: U.S. EPA, Region 8; 999 18th Street, Suite 200; Denver, CO 80202-2466. Requests to view files in the Region 8 NPDES file room should be sent to Ellen Bonner, (303) 312-6371 (bonner.ellen@epa.gov).

OMB Review: Issuance of an NPDES general permit is not subject to rulemaking requirements, including the requirement for a general notice of final rulemaking, under Administrative Procedure Act (APA) Section 533 or any other law, and is thus also not subject to the Regulatory Flexibility Act (RFA) and the Unfundated Mandates Reform Act (UMRA) requirements.

The APA defines two broad categories of agency action—“rules” and “orders.” Its definition of “rule” encompasses “an agency statement of general or particular applicability and future effect designed to implement, interpret, or prescribe law or policy or describing the organization, procedure, or practice requirements of an agency * * *” APA section 551(4). Its definition of “order” is residual: “a final disposition * * * of an agency in a matter other than rule making but including licensing.” APA section 551(6) (emphasis added). The APA defines “license” to “include * * * an agency permit * * *” APA section 551(8). The APA thus categorizes a permit as an order, which by the APA's definition is not a rule. Section 553 of the APA establishes “rule making” requirements. The APA defines “rule making” as “the agency process for formulating, amending, or repealing a rule.” APA section 551(5). By its terms, then, section 533 applies only to “rules” and not also to “orders,” which include permits.

Paperwork Reduction Act: EPA has reviewed the requirements imposed on regulated facilities in these proposed general permits under the Paperwork Reduction Act of 1980, 44 U.S.C. 3501 et seq. The information collection requirements of these permits have already been approved by the Office of Management and Budget in submissions made for the NPDES permit program under the provisions of the Clean Water Act.

Authority: Clean Water Act, 33 U.S.C. 1251 et seq.

Dated: November 29, 2006.
Carol L. Campbell,
Acting Assistant Regional Administrator, Office of Partnerships and Regulatory Assistance.

[FR Doc. E6-20986 Filed 12-8-06; 8:45 am]

BILLING CODE 6560-50-P